FEDERAL COMMUNICATIONS COMMISSION

Notice of Public Information Collection(s) Being Reviewed by the Federal Communications Commission for Extension Under Delegated Authority, Comments Requested

March 28, 2011.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid OMB control number. No person shall be subject to any penalty for failing to comply with a collection of information subject to the Paperwork Reduction Act (PRA) that does not display a currently valid OMB control number.

DATES: Written Paperwork Reduction Act (PRA) comments should be submitted on or before June 3, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov.

FOR FURTHER INFORMATION CONTACT: Judith B. Herman, Office of Managing Director, (202) 418-0214. For additional information, contact Judith B. Herman, OMD, 202-418-0214 or e-mail judith-b.herman@fcc.gov.

SUPPLEMENTARY INFORMATION: OMB Control Number: 3060-0065.

Title: Applications for New or Modified Radio Station Authorization Under Part 5 of FCC Rules—Experimental Radio Service (Other than Broadband).

Form No.: FCC Form 442.

Type of Review: Extension of a currently approved collection.

Respondents: Not-for-profit institutions and state, local or tribal government.

Number of Respondents and Responses: 200 respondents; 280 responses.

Estimated Time Per Response: 4 hours.

Frequency of Response: On occasion reporting requirement and recordkeeping requirement.

Obligation to Respond: Required to obtain or retain benefits. Statutory authority for this information collection is contained in 47 U.S.C. 154, 302 and 303.

Total Annual Burden: 1,120 hours.

Total Annual Cost: $18,000.

Privacy Act Impact Assessment: N/A.

Nature and Extent of Confidentiality: Applicants may request that any information supplied be withheld from public inspection pursuant to 47 CFR 0.459 of the Commission's rules. This request must be justified under 47 CFR 0.447 of the Commission's rules.

Needs and Uses: The Commission will submit this expiring collection to the Office of Management and Budget (OMB) after this comment period to obtain the three year clearance from them. There is no change in the Commission's burden hour estimate or annual cost estimate. The Commission is seeking OMB approval for an extension (no change in the reporting and/or recordkeeping requirements).

Part 5 allows for operations not covered under other FCC rule parts, such as research and development, testing prior to equipment authorization, and limited market studies of experimental services/products. Applicants are generally electronic equipment manufacturers. Applicants who apply for a FCC license to operate a new or modified experimental radio station are required to complete and file FCC Form 442.

The FCC will use the information to determine if the applicant is eligible for an experimental license, to comply with the requirements of Part 5 of the Commission's rules and if the proposed operation will cause interference to existing operations.

Federal Communications Commission.
Gloria Miles,
Federal Register Liaison,
Office of the Secretary,
Office of Managing Director.

[FR Doc. 2011-7909 Filed 4-1-11; 8:45 am]

BILLING CODE 6712-01-P